DEPARTMENT OF THE INTERIOR

National Park Service

[NPS-WASO-NRNHL-DTS#-35116; PPWOCRADI0, PCU00RP14.R50000]

National Register of Historic Places; Notification of Pending Nominations and Related Actions

AGENCY: National Park Service, Interior.

ACTION: Notice.

SUMMARY: The National Park Service is soliciting electronic comments on the significance of properties nominated before January 7, 2023, for listing or related actions in the National Register of Historic Places.

DATES: Comments should be submitted electronically by February 6, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 7, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

IOWA

Crawford County

Denison Opera House, (Movie Theaters of Iowa MPS), 1303 Broadway (1301-1305 Broadway), Denison, MP100008627

Woodbury County

Warnock Building, 701-705 Douglas St., Sioux City, SG100008628

MASSACHUSETTS

Bristol County

Oxford School, 347 Main St., Fairhaven, SG100008623

Third Street Commercial Corridor Historic District, 18-48 3rd St., Fall River, SG100008624

OHIO

Franklin County

Beatty-Moore House, (Twentieth-Century African American Civil Rights Movement in Ohio MPS), 41 North Monroe Ave., Columbus, MP100008631

Walters, Vincent, House-Walters Music Academy, 225 North Monroe Ave., Columbus, SG100008636

SOUTH DAKOTA

Meade County

Royal Center School, (Schools in South Dakota MPS), Northwest corner of intersection of Sulphur Cutoff and Stoneville Rds., Opal vicinity, MP100008632

TEXAS

Travis County

Suburban Alcoholic Foundation Clubhouse, 2809 Northland Dr., Austin, SG100008622

WISCONSIN

Manitowoc County

West, Ruth St. John and John Dunham, House and Gardens, 915 Memorial Dr., Manitowoc, SG100008630

Additional documentation has been received for the following resources:

ARKANSAS

Pulaski County

West 7th Street Historic District (Additional Documentation), Portions of 800-1100 blocks of W 7th St., Little Rock, AD08001341

Central High School Neighborhood Historic District (Additional Documentation),Roughly bounded by MLK Dr., Thayer Ave., West 12th St., and Roosevelt Rd., Little Rock, AD96000892

MICHIGAN

Leelanau County

Fishtown Historic District (Additional Documentation), West River St., West Cedar St., West Avenue A, Leland Township, AD100006765, Comment period: 0 days

Authority: Section 60.13 of 36 CFR part 60.

Dated: January 11, 2023.
Sherry A. Frear,
Chief, National Register of Historic Places/National Historic Landmarks Program.

[FR Doc. 2023-01070 Filed 1-19-23; 8:45 am]

BILLING CODE 4312-52-P